DEPARTMENT OF STATE

[Public Notice 5575]

Department of State Performance Review Board Members (for Non Career Senior Executive Employees)

In accordance with section 4314 (c) (4) of the Civil Service Reform Act of 1978 (Pub. L. 95-454), the Executive Resources Board of the Department of State has appointed the following individuals to the Department of State Performance Review Board (for Non Career Senior Executive Employees) Kim M. Nickles, Under Secretary for Management, White House Liaison, Department of State; Brian F. Gunderson, Chief of Staff, Office of the Secretary, Department of State.

Dated: September 15, 2006.
George M. Staples,
Director General of the Foreign Service and Director of Human Resources, Department of State.

[FR Doc. E6-16591 Filed 10-5-06; 8:45 am]

BILLING CODE 4710-15-P